DEPARTMENT OF AGRICULTURE

Forest Service

Withdrawal of the Pacific Southwest Regional Guide

AGENCY: Forest Service, USDA.

ACTION: Notice.

SUMMARY: The intended effect of this action is to comply with 36 CFR part 219 section 219.35(e) which directs that within 1 year of November 9, 2000, the Regional Forester must withdraw the Regional Guide. When a Regional Guide is withdrawn, the Regional Forester must identify the decisions in the Regional Guide that are to be transferred to a regional supplement of the Forest Service directive system (36 CFR 200.4) or to one or more plans and give notice in the Federal Register of these actions.

DATES: This action will be effective April 1, 2002.

FOR FURTHER INFORMATION CONTACT: Bradley J. Burmark, Forest Planner, Pacific Southwest Region, 1323 Club Drive, Vallejo, CA 94592, 707-562-8950

SUPPLEMENTARY INFORMATION: This action withdraws the Pacific Southwest Regional Guide. None of the direction in the Pacific Southwest Regional Guide will be transferred to a regional supplement of the Forest Service directive system or to forest plans. The direction in the Regional Guide is already in the forest plans, is obsolete, has been replaced by more recent direction, or is already present in other existing policies.

Dated: March 19, 2002.
Gilbert J. Espinosa,
Acting Regional Forester.

[FR Doc. 02-7062 Filed 3-22-02; 8:45 am]

BILLING CODE 3410-11-M